DEPARTMENT OF ENERGY

Federal Energy Regulatory Commission

[Docket Nos. CP17-101-007, CP20-49-001]

Transcontinental Gas Pipe Line Company, LLC; Notice of Availability of the Final General Conformity Determination Reevaluation for the Northeast Supply Enhancement Project

The staff of the Federal Energy Regulatory Commission (FERC or Commission) has prepared a Final General Conformity Determination Reevaluation (GCD Reevaluation) for the Northeast Supply Enhancement Project (Project), proposed by Transcontinental Gas Pipe Line Company, LLC (Transco) in the above-referenced dockets. The Final GCD Reevaluation was prepared to satisfy the requirements of the Clean Air Act. The Final GCD Reevaluation assesses the potential air quality impacts associated with the construction and operation of the following Project facilities:

• 10.2 miles of 42-inch-diameter pipeline loop ¹ in Lancaster County, Pennsylvania (the Quarryville Loop);

¹ A pipeline “loop” is a segment of pipe constructed parallel to an existing pipeline to increase capacity.

• 3.4 miles of 26-inch-diameter pipeline loop in Middlesex County, New Jersey (the Madison Loop);

• 23.5 miles of 26-inch-diameter pipeline loop onshore and offshore in Middlesex and Monmouth Counties, New Jersey and Queens and Richmond Counties, New York (Raritan Bay Loop);

• modification of existing Compressor Station 200 in Chester County, Pennsylvania;

• new Compressor Station 206 in Somerset County, New Jersey; and ancillary facilities.

The Final GCD Reevaluation identifies that all emissions above the General Conformity applicability thresholds from construction of the Project are expected to occur in New York and New Jersey within the New Jersey-New York-Connecticut Interstate Air Quality Control Region. The Final GCD Reevaluation concludes that the Project would achieve conformity with the New York and New Jersey State Implementation Plans through the purchase of emission reduction credits of nitrogen oxides to offset Project emissions.

The Final GCD Reevaluation is only available in electronic format. It may be viewed and downloaded from the FERC's website (www.ferc.gov) using the eLibrary link. Click on the eLibrary link (https://elibrary.ferc.gov/eLibrary/search), select “General Search” and enter the docket number in the “Docket Number” field, excluding the last three digits (i.e. CP17-101). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202)502-6595 or OPP@ferc.gov.

Dated: August 12, 2025.
Debbie-Anne A. Reese,
Secretary.

[FR Doc. 2025-15560 Filed 8-14-25; 8:45 am]

BILLING CODE 6717-01-P